Proclamation 10386 of April 29, 2022

Public Service Recognition Week, 2022

By the President of the United States of America

A Proclamation

America's dedicated public servants are the lifeblood of our democracy. Every day, millions of public workers at all levels of government do extraordinary things to make our lives better and our country stronger. During Public Service Recognition Week, we honor the dedicated Federal, State, Tribal, and local public servants who embody the spirit of service and endless possibilities that define America.

Public servants make crucial contributions in every community in America. They educate our children, keep our communities safe, defend our country, deliver our mail, maintain our roads and bridges, develop cures for diseases, improve sustainability, and care for our veterans—among countless other essential services that keep our country safe and propel us forward. Public servants reflect the full diversity of this Nation, and deliver the promise of a Government by and for the people.

Our public servants have displayed remarkable resilience and dedication throughout the COVID-19 pandemic. They have led vaccination efforts to keep our communities safe, provided relief to small businesses, supported natural disaster recovery efforts, and safely reopened schools so that our students can learn. I am proud that my Administration's American Rescue Plan provided $350 billion to State, Tribal, and local governments so that they could retain and re-hire vital public servants—educators, police officers, firefighters, public works employees, and countless others. The American Rescue Plan also provided $122 billion for our public schools, equipping them with the resources they need to operate safely and support our students. Every day, public servants continue to put these funds to work in ways that transform our communities for the better.

My Administration is committed to protecting, empowering, and rebuilding the career Federal workforce so they can bring more resources to bear in service of the American people. To recruit and retain the best career civil service employees, I directed executive departments and agencies to increase the minimum wage for Federal employees to $15 per hour to make Government jobs more competitive. I established a White House Task Force on Worker Organizing and Empowerment, led by Vice President Harris, which has already put forward nearly 70 recommendations to strengthen the right to unionize among Federal Government workers. I have also taken steps to protect Federal employees against discrimination on the basis of gender identity or sexual orientation. I established a government-wide initiative to advance diversity, equity, and inclusion in the Federal workforce—because when public servants reflect the full diversity of the communities they serve, governments are more effective and successful.

I am proud that my Administration has delivered significant relief to public servants who have Federal student loans. It is crucial that student loans create a pathway to opportunity, not a lifelong burden. In October, my Administration announced a series of actions to make it easier for borrowers to receive loan forgiveness. Since then, more than 100,000 public servants have received nearly $6.2 billion in student loan debt relief. We will continue to build a student loan system that provides borrowers the relief they need.

This week, we recognize the indispensable contributions of our Nation's public servants. We honor all our public workers who perform critical roles across our country and around the globe. I have the greatest honor of serving alongside these workers every day, and I am humbled by their commitment to building a better America.

NOW, THEREFORE, I, JOSEPH R. BIDEN JR., President of the United States of America, by virtue of the authority vested in me by the Constitution and the laws of the United States, do hereby proclaim May 1 through May 7, 2022, as Public Service Recognition Week. I call upon all Americans to celebrate public servants and their contributions this week and throughout the year.

IN WITNESS WHEREOF, I have hereunto set my hand this twenty-ninth day of April, in the year of our Lord two thousand twenty-two, and of the Independence of the United States of America the two hundred and forty-sixth.

[FR Doc. 2022-09766

Filed 5-4-22; 8:45 am]

Billing code 3395-F2-P